DEPARTMENT OF ENERGY

Federal Energy Regulatory Commission

Combined Notice of Filings #1

Take notice that the Commission received the following electric corporate filings:

Docket Numbers: EC22-53-000.

Applicants: GC PGR Holdco, LLC, Beulah Solar, LLC, Centerfield Cooper Solar, LLC, Highest Power Solar, LLC, Lick Creek Solar, LLC, Peony Solar, LLC, PGR 2020 Lessee 8, LLC, PGR 2021 Lessee 1, LLC, PGR 2021 Lessee 2, LLC, PGR 2021 Lessee 5, LLC, PGR 2021 Lessee 7, LLC, PGR Lessee L, LLC, PGR Lessee O, LLC, Stanly Solar, LLC, Sugar Solar, LLC, Trent River Solar, LLC, Trent River Solar Mile Lessee, LLC, TWE Bowman Solar Project, LLC.

Description: Application for Authorization Under Section 203 of the Federal Power Act and Request for Expedited Consideration of GC PGR Holdco, LLC.

Filed Date: 4/15/22.

Accession Number: 20220415-5332.

Comment Date: 5 p.m. ET 5/6/22.

Docket Numbers: EC22-54-000.

Applicants: Triolith Energy Fund L.P., Cascade Trading Ltd.

Description: Joint Application for Authorization Under Section 203 of the Federal Power Act of Triolith Energy Fund L.P., et al.

Filed Date: 4/15/22.

Accession Number: 20220415-5342.

Comment Date: 5 p.m. ET 5/6/22.

Take notice that the Commission received the following exempt wholesale generator filings:

Docket Numbers: EG22-97-000.

Applicants: Sonoran West Solar Holdings 2, LLC.

Description: Sonoran West Solar Holdings 2, LLC submits Request for Commission Certification of Exempt Wholesale Generator Status.

Filed Date: 4/15/22.

Accession Number: 20220415-5324.

Comment Date: 5 p.m. ET 5/6/22.

Docket Numbers: EG22-98-000.

Applicants: Sonoran West Solar Holdings, LLC.

Description: Sonoran West Solar Holdings, LLC submits Request for Commission Certification of Exempt Wholesale Generator Status.

Filed Date: 4/15/22.

Accession Number: 20220415-5325.

Comment Date: 5 p.m. ET 5/6/22.

Docket Numbers: EG22-99-000.

Applicants: Enel Green Power Estonian Solar Project, LLC.

Description: Enel Green Power Estonian Solar Project, LLC submits Notice of Self-Certification of Exempt Wholesale Generator Status.

Filed Date: 4/13/22.

Accession Number: 20220413-5245.

Comment Date: 5 p.m. ET 5/4/22.

Take notice that the Commission received the following electric rate filings:

Docket Numbers: ER20-1265-001.

Applicants: UNS Electric, Inc.

Description: Compliance filing: Order 864 Compliance Filing to be effective1/27/2020.

Filed Date: 4/18/22.

Accession Number: 20220418-5325.

Comment Date: 5 p.m. ET 5/9/22.

Docket Numbers: ER22-1654-000.

Applicants: Louisville Gas and Electric Company.

Description: Section 205(d) Rate Filing: LGEKU KYMEA Amended NITSA to be effective 4/1/2022.

Filed Date: 4/18/22.

Accession Number: 20220418-5142.

Comment Date: 5 p.m. ET 5/9/22.

Docket Numbers: ER22-1655-000.

Applicants: PJM Interconnection, L.L.C.

Description: Section 205(d) Rate Filing: Original ISA, SA No. 6396; Queue No. AD2-074/AF1-042 to be effective 3/18/2022.

Filed Date: 4/18/22.

Accession Number: 20220418-5305.

Comment Date: 5 p.m. ET 5/9/22.

Docket Numbers: ER22-1656-000.

Applicants: ITC Midwest LLC.

Description: Section 205(d) Rate Filing: Amended DTIA with Jo-Carroll Energy to be effective 6/18/2022.

Filed Date: 4/18/22.

Accession Number: 20220418-5387.

Comment Date: 5 p.m. ET 5/9/22.

Take notice that the Commission received the following electric securities filings:

Docket Numbers: ES22-38-000.

Applicants: Orange and Rockland Utilities, Inc.

Description: Application Under Section 204 of the Federal Power Act for Authorization to Issue Securities of Orange and Rockland Utilities, Inc.

Filed Date: 4/15/22.

Accession Number: 20220415-5327.

Comment Date: 5 p.m. ET 5/6/22.

Docket Numbers: ES22-39-000.

Applicants: West Penn Power Company.

Description: Application Under Section 204 of the Federal Power Act for Authorization to Issue Securities of West Penn Power Company.

Filed Date: 4/15/22.

Accession Number: 20220415-5331.

Comment Date: 5 p.m. ET 5/6/22.

Docket Numbers: ES22-40-000.

Applicants: Pennsylvania Power Company.

Description: Application Under Section 204 of the Federal Power Act for Authorization to Issue Securities of Pennsylvania Power Company.

Filed Date: 4/15/22.

Accession Number: 20220415-5338.

Comment Date: 5 p.m. ET 5/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: April 18, 2022.
Debbie-Anne A. Reese,
Deputy Secretary.

[FR Doc. 2022-08592 Filed 4-21-22; 8:45 am]

BILLING CODE 6717-01-P